DEPARTMENT OF HEALTH AND HUMAN SERVICES

Food and Drug Administration

Advisory Committees; Tentative Schedule of Meetings for 2006

AGENCY: Food and Drug Administration, HHS.

ACTION: Notice.

SUMMARY: The Food and Drug Administration (FDA) is announcing a tentative schedule of forthcoming meetings of its public advisory committees for 2006. During 1991, at the request of the Commissioner of Food and Drugs (the Commissioner), the Institute of Medicine (the IOM) conducted a study of the use of FDA's advisory committees. In its final report, one of the IOM's recommendations was for the agency to publish an annual tentative schedule of its meetings in the Federal Register. This publication implements the IOM's recommendation.

FOR FURTHER INFORMATION CONTACT: Theresa L. Green, Advisory Committee Oversight and Management Staff (HF-4), Food and Drug Administration, 5600 Fishers Lane, Rockville, MD 20857, 301-827-1220.

SUPPLEMENTARY INFORMATION: The IOM, at the request of the Commissioner, undertook a study of the use of the FDA's advisory committees. In its final report in 1992, one of the IOM's recommendations was for FDA to adopt a policy of publishing an advance yearly schedule of its upcoming public advisory committee meetings in the Federal Register; FDA has implemented this recommendation. The annual publication of tentatively scheduled advisory committee meetings will provide both advisory committee members and the public with the opportunity, in advance, to schedule attendance at FDA's upcoming advisory committee meetings. Because the schedule is tentative, amendments to this notice will not be published in the Federal Register. However, changes to the schedule will be posted on the FDA advisory committees' Internet site located at http://www.fda.gov/oc/advisory/default.htm. FDA will continue to publish a Federal Register notice 15 days in advance of each upcoming advisory committee meeting, to announce the meeting (21 CFR 14.20).

The following list announces FDA's tentatively schedule advisory committee meeting for 2006. You may also obtain up-to-date information by calling the Advisory Committee Information Line, 1-800-741-8138 (301-443-0572 in the Washington, DC area).

Committee Name | Tentative Date(s) of Meetings | Advisory Committee 10-Digit Information Line Code
OFFICE OF THE COMMISSIONER
Pediatric Advisory Committee | March, June, and November day(s) to be announced. | 8732310001
Science Board to the Food and Drug Administration | April and November day(s) to be announced. | 3014512603
CENTER FOR BIOLOGICS EVALUATION AND RESEARCH
Allergenic Products Advisory Committee | March 31, September 13. | 3014512388
Blood Products Advisory Committee | March 9-10, July 13-14, October 26-27. | 3014519516
Cellular, Tissue and Gene Therapies Advisory Committee | February 9-10, July 13-14, November 2-3. | 3014512389
Transmissible Spongiform Encephalopathies Advisory Committee | To be announced. | 3014512392
Vaccines and Related Biological Products Advisory Committee | February 17, May 17-18, September 20-21, November 15-16. | 3014512391
CENTER FOR DRUG EVALUATION AND RESEARCH
Anesthetic and Life Support Drugs Advisory Committee | To be announced. | 3014512529
Anti-Infective Drugs Advisory Committee | To be announced. | 3014512530
Antiviral Drugs Advisory Committee | To be announced. | 3014512531
Arthritis Advisory Committee | To be announced. | 3014512532
Cardiovascular and Renal Drugs Advisory Committee | April 25-26, July 25-26, November 1-2. | 3014512533
Dermatologic and Ophthalmic Drugs Advisory Committee | To be announced. | 3014512534
Drug Safety and Risk Management Advisory Committee | February 9-10, May 4-5. | 3014512535
Endocrinologic and Metabolic Drugs Advisory Committee | January 23, May 3-4, August 23-24, November 8-9. | 3014512536
Gastrointestinal Drugs Advisory Committee | September and November day(s) to be announced. | 3014512538
Nonprescription Drugs Advisory Committee | January 23-24. | 3014512541
Oncologic Drugs Advisory Committee | March 14 (Pediatric Subcommittee), March 15, June 2, September 12-13, December 6-7. | 3014512542
Peripheral and Central Nervous System Drugs Advisory Committee | March 7-8. | 3014512543
Pharmaceutical Science, Advisory Committee for | April 13-14 (Clinical Pharmacology Subcommittee), October 18-19 (Clinical Pharmacology Subcommittee), April, May, and October day(s) to be announced. | 3014512539
Psychopharmacologic Drugs Advisory Committee | To be announced. | 3014512544
Pulmonary-Allergy Drugs Advisory Committee | January 24. | 3014512545
Reproductive Health Drugs, Advisory Committee for | May and June day(s) to be announced. | 3014512537
CENTER FOR DEVICES AND RADIOLOGICAL HEALTH
Device Good Manufacturing Practice Advisory Committee | No tentative meeting scheduled. | 3014512398
Medical Devices Advisory Committee (Comprised of 18 Panels)
Anesthesiology and Respiratory Therapy Devices Panel | April 7, October 6. | 3014512624
Circulatory System Devices Panel | February 16, April 21, June 16, August 18, October 20. | 3014512625
Clinical Chemistry and Clinical Toxicology Devices Panel | February 22-23, May 24-25, September 7-8, December 6-7. | 3014512514
Dental Products Panel | February 28, July 25, October 24. | 3014512518
Ear, Nose, and Throat Devices Panel | February 1-2, April 3-4, June 15-16, August 10-11, October 11-12, December 4-5. | 3014512522
Gastroenterology-Urology Devices Panel | March 3, May 5, July 21, October 20. | 3014512523
General and Plastic Surgery Devices Panel | April 27-28, August 24-25, December 4-5. | 3014512519
General Hospital and Personal Use Devices Panel | February 9-10, June 12-13, September 28-29. | 3014512520
Hematology and Pathology Devices Panel | April 28, October 20. | 3014512515
Immunology Devices Panel | July 14, November 8. | 3014512516
Medical Devices Dispute Resolution Panel | Meeting scheduled as needed. | 3014510232
Microbiology Devices Panel | February 23-24, September 21-22, October 26-27. | 3014512517
Molecular and Clinical Genetics Panel | April 13-14, October 5-6. | 3014510231
Neurological Devices Panel | March 2-4, August 3-4, June 5-6, August 28-29, November 13-14. | 3014512513
Obstetrics-Gynecology Devices Panel | March 27-28, June 5-6, August 28-29, November 13-14. | 3014512524
Ophthalmic Devices Panel | March 7-8, May 18, July 13-14, September 19-20, November 2-3. | 3014512396
Orthopaedic and Rehabilitation Devices Panel | February 2-3, July 27-28, October 26-27, December 11-12. | 3014512521
Radiological Devices Panel | February 7, May 23, September 12, November 7. | 3014512526
National Mammography Quality Assurance Advisory Committee | August 28. | 3014512397
Technical Electronic Product Radiation Safety Standards Committee | October 4. | 3014512399
CENTER FOR FOOD SAFETY AND APPLIED NUTRITION
Food Advisory Committee | March 1, May 3, July 12, September 13. | 3014510564
CENTER FOR VETERINARY MEDICINE
Veterinary Medicine Advisory Committee | March 15, October 16. | 3014512548
NATIONAL CENTER FOR TOXICOLOGICAL RESEARCH (NCTR)
Science Advisory Board to NCTR | April day(s) to be announced. | 3014512559
Advisory Committee on Special Studies Relating to the Possible Long-Term Health Effects of Phenoxy Herbicides and Contaminants (Ranch Hands) | February day(s) to be announced. | 3014512560

Dated: December 14, 2005.
Jason Brodsky,
Acting Associate Commissioner for External Relations.

[FR Doc. E5-7645 Filed 12-21-05; 8:45 am]

BILLING CODE 4160-01-S